FEDERAL COMMUNICATIONS COMMISSION

Radio Broadcasting Services; AM or FM Proposals To Change the Community of License

AGENCY: Federal Communications Commission.

ACTION: Notice.

SUMMARY: The following applicants filed AM or FM proposals to change the community of license: ENTERTAINMENT MEDIA TRUST, DENNIS J. WATKINS, TRUSTEE, Facility ID 5281, BP-20100216AAY, From UNIVERSITY CITY, MO, To FAIRVIEW HEIGHTS, IL; OCEAN SIDE BROADCASTING, INC., Facility ID 177396, BMPED-20100517AAA, From ELK MOUNTAIN, WY, To WEST LARAMIE, WY; RUDEX BROADCASTING LIMITED CORPORATION, Facility ID 36830, BP-20100608ADF, From HEMET, CA, To LOMA LINDA, CA.

DATES: Comments may be filed through August 24, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm.

A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. 2010-15473 Filed 6-24-10; 8:45 am]

BILLING CODE 6712-01-P